DEPARTMENT OF HOUSING AND URBAN DEVELOPMENT

[Docket No. FR-5040-N-01]

Ginnie Mae Multiclass Securities Program Documents (Forms and Electronic Data Submissions); Notice of Proposed Information Collection: Comment Request

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: September 19, 2006.

ADDRESSES: Interested persons are invited to submit comments regarding this proposal. Comments should refer to the proposal by name and/or OMB Control Number and should be sent to: Lillian Deitzer, QDAM, Information Reports Management Officer, Department of Housing and Urban Development, 451 7th Street, SW., L'Enfant Plaza Building, Room 800a, Washington, DC 20410; e-mail Lillian_L._Deitzer@hud.gov; telephone (202) 708-2374. This is not a toll-free number. Copies of available documents submitted to OMB may be obtained from Ms. Deitzer.

FOR FURTHER INFORMATION CONTACT: Debra Murphy, Ginnie Mae, 451 7th Street, SW., Room B-133, Washington, DC 20410; e-mail: Debra_L._Murphy@hud.gov; telephone (202) 475-4923 (this is not a toll-free number); fax: 202-485-0225 or the Ginnie Mae Web site at http://www.ginniemae.gov for other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Ginnie Mae Multiclass Securities Program Documents (Forms and Electronic Data Submissions).

OMB Control Number, if applicable: 2503-0017.

Description of the need for the information and proposed use: This information collection is required in connection with the operation of the Ginnie Mae Multiclass Securities program. Ginnie Mae's authority to guarantee multiclass instruments is contained in 306(g)(1) of the National Housing Act (“NHA”) (12 U.S.C. 1721(g)(1)), which authorizes Ginnie Mae to guarantee “securities * * * based on or backed by a trust or pool composed of mortgages. * * *” Multiclass securities are backed by Ginnie Mae securities, which are backed by government insured or guaranteed mortgages. Ginnie Mae's authority to operate a Multiclass Securities program is recognized in Section 3004 of the Omnibus Budget Reconciliation Act of 1993 (“OBRA”), which amended 306(g)(3) of the NHA (12 U.S.C. 1271(g)(3)) to provide Ginnie Mae with greater flexibility for the Multiclass Securities program regarding fee structure, contracting, industry consultation, and program implementation. Congress annually sets Ginnie Mae's commitment authority to guarantee mortgage-backed (“MBS”) pursuant to 306(G)(2) of the NHA (12 U.S.C. 1271(g)(2)). Since the multiclass are backed by Ginnie Mae Single Class MBS, Ginnie Mae has already guaranteed the collateral for the multiclass instruments.

The Ginnie Mae Multiclass Securities Program consists of Ginnie Mae Real Estate Mortgage Investment Conduit (“REMIC”) securities, Stripped Mortgage-Backed Securities (“SMBS”), and Platinum securities. The Multiclass Securities program provides an important adjunct to Ginnie Mae's secondary mortgage market activities, allowing the private sector to combine and restructure cash flows Ginnie Mae Single Class MBS into securities that meet unique investor requirements in connection with yield, maturity, and call-option protection. The intent of the Mutliclass Securities program is to increase liquidity in the secondary mortgage market and to attract new sources of capital for federally insured or guaranteed loans. Under this program, Ginnie Mae guarantees, with the full faith and credit of the United States, the timely payment of principal and interest on Ginnie Mae REMIC, SMBS and Platinum securities.

Agency form numbers, if applicable: Not applicable.

Members of affected public: For-profit business (mortgage companies, thrifts, savings & loans, etc.).

Estimation of the total number of hours needed to prepare the information collection including number of respondents, frequency of response, and hours of response:

REMIC Securities
Type of information collection | Prepared by | Number of potential sponsors | Estimated annual frequency per respondent | Total annual responses | Est. average hrly burden | Est. annual burden hrs
Pricing Letter | Sponsor | 19 | 8 | 152 | 0.5 | 76
Structured Term Sheet | Sponsor | 19 | 8 | 152 | 3 | 456
Trust (REMIC) Agreement | Attorney for Sponsor | 19 | 8 | 152 | 1 | 152
Trust Opinion | Attorney for Sponsor | 19 | 8 | 152 | 4 | 608
MX Trust Agreement | Attorney for Sponsor | 19 | 8 | 152 | 0.16 | 24.32
MX Trust Opinion | Attorney for Sponsor | 19 | 8 | 152 | 4 | 608
RR Certificate | Attorney for Sponsor | 19 | 8 | 152 | 0.08 | 12.16
Sponsor Agreement | Attorney for Sponsor | 19 | 8 | 152 | 0.05 | 7.6
Table of Contents | Attorney for Sponsor | 19 | 8 | 152 | 0.33 | 50.16
Issuance Statement | Attorney for Sponsor | 19 | 8 | 152 | 0.5 | 76
Tax Opinion | Attorney for Sponsor | 19 | 8 | 152 | 4 | 608
Transfer Affidavit | Attorney for Sponsor | 19 | 8 | 152 | 0.08 | 12.16
Supplemental Statement | Attorney for Sponsor | 19 | 8 | 152 | 1 | 152
Final Data Statements (attached to closing letter) | Attorney for Sponsor | 19 | 8 | 152 | 32 | 4864
Accountants' Closing Letter | Accountant | 19 | 8 | 152 | 8 | 1216
Accountants' OSC Letter | Accountant | 19 | 8 | 152 | 8 | 1216
Structuring Data | Accountant | 19 | 8 | 152 | 8 | 1216
Financial Statements | Accountant | 19 | 8 | 160 | 1 | 160
Principal and Interest Factor File Specifications | Trustee | 19 | 8 | 152 | 16 | 2432
Distribution Dates and Statement | Trustee | 19 | 8 | 152 | 0.42 | 63.84
Term Sheet | Sponsor | 19 | 8 | 152 | 2 | 304
New Issue File Layout | Trustee | 19 | 8 | 152 | 4 | 608
Flow of Funds | Attorney for Trustee | 19 | 8 | 152 | 0.16 | 24.32
Trustee Receipt | Trustee Attorney | 19 | 8 | 152 | 2 | 304
Data Verification Form | Trustee | 19 | 8 | 152 | 0.08 | 12.16
Total |  |  |  | 3808 |  | 15262.72

SMBS Securities
Type of information collection | (Prepared by) | No. of potential sponsors | Estimated annual frequency per respondent | Total annual responses | Est. average hrly burden | Est. annual burden hrs
Pricing Letter | Sponsor | 19 | 1 | 19 | 0.5 | 9.5
Strucutred Term Sheet | Sponsor | 19 | 1 | 19 | 3 | 57
Trust (REMIC) Agreement | Attorney for Sponsor | 19 | 1 | 19 | 1 | 19
Trust Opinion | Attorney for Sponsor | 19 | 1 | 19 | 4 | 76
MX Trust Agreement | Attorney for Sponsor | 19 | 1 | 19 | 0.16 | 3.04
MX Trust Opinion | Attorney for Sponsor | 19 | 1 | 19 | 4 | 76
RR Certificate | Attorney for Sponsor | 19 | 1 | 19 | 0.08 | 1.52
Sponsor Agreement | Attorney for Sponsor | 19 | 1 | 19 | 0.05 | 0.95
Table of Contents | Attorney for Sponsor | 19 | 1 | 19 | 0.33 | 6.27
Issuance Statement | Attorney for Sponsor | 19 | 1 | 19 | 0.5 | 9.5
Tax Opinion | Attorney for Sponsor | 19 | 1 | 19 | 4 | 76
Transfer Affidavit | Attorney for Sponsor | 19 | 1 | 19 | 0.08 | 1.52
Supplemental Statement | Attorney for Sponsor | 19 | 1 | 19 | 1 | 19
Final Data Statements (attached to closing letter) | Attorney for Sponsor | 19 | 1 | 19 | 32 | 608
Accountants' Closing Letter | Accountant | 19 | 1 | 19 | 8 | 152
Accountants' OSC Letter | Accountant | 19 | 1 | 19 | 8 | 152
Structuring Data | Accountant | 19 | 1 | 19 | 8 | 152
Financial Statements | Accountant | 19 | 1 | 160 | 1 | 160
Principal and Interest Factor File Specifications | Trustee | 19 | 1 | 19 | 16 | 304
Distribution Dates and Statement | Trustee | 19 | 1 | 19 | 0.42 | 7.98
Term Sheet | Sponsor | 19 | 1 | 19 | 2 | 38
New Issue File Layout | Trustee | 19 | 1 | 19 | 4 | 76
Flow of Funds | Attorney for Trustee | 19 | 1 | 19 | 0.16 | 3.04
Trustee Receipt | Trustee Attorney | 19 | 1 | 19 | 2 | 38
Data Verification Form | Trustee | 19 | 1 | 19 | 0.08 | 1.52
Total |  |  |  | 616 |  | 2047.84

Platinum Securities
Type of information collection | Prepared by | Number of potential sponsors | Estimated annual frequency per respondent | Total annual responses | Estimated average hourly burden | Estimated annual burden hours
Deposit Agreement | Depositor | 19 | 10 | 190 | 1 | 190
MBS Schedule | Depositor | 19 | 10 | 190 | 0.16 | 30.4
New Issue File Layout | Depositor | 19 | 10 | 190 | 4 | 760
Principal and Interest Factor File Specifications | Trustee | 19 | 10 | 190 | 16 | 3040
Data Verification Form | Trustee | 19 | 10 | 190 | 0.08 | 12.2
Total |  |  |  | 950 |  | 4035.6
Total Burden Hours |  |  |  |  |  | 21346.16

Calculation of Burden Hours:

Sponsors × Frequency per Year = Est. Annual Frequency.

Estimated Annual Frequency × Estimated Average Completion Time = Estimated Annual Burden Hours

Status of the proposed information collection: Reinstatement, with change, of a previously approved collection.

Authority: Section 3506 of the Paperwork Reduction Act of 1995, 44 U.S.C. Chapter 35 as amended.

Dated: July 14, 2006.
Michael J. Frenz,
Executive Vice President, Ginnie Mae.

[FR Doc. 06-6384 Filed 7-20-06; 8:45 am]

BILLING CODE 4210-67-M